FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 011982-004.

Agreement Name: Evergreen Line Joint Service Agreement.

Parties: Evergreen Marine Corp. (Taiwan) Ltd.; Evergreen Marine (UK) Ltd.; Evergreen Marine (Hong Kong) Ltd.; Italia Marittima S.P.A.; Evergreen Marine (Singapore) Pte. Ltd.; and Evergreen Marine (Asia) Pte. Ltd.

Synopsis: The amendment adds a new party to the Agreement and makes updates to addresses for existing parties.

Proposed Effective Date: 5/31/2021.

Location: https://www2.fmc.gov/FMC.Agreements.Web/Public/AgreementHistory/466.

Dated: April 23, 2021.
Rachel E. Dickon,
Secretary.

[FR Doc. 2021-08838 Filed 4-27-21; 8:45 am]

BILLING CODE 6730-02-P